INTERNATIONAL TRADE COMMISSION

[Investigation No. 337-TA-1292]

Certain Replacement Automotive Lamps II; Notice of the Commission's Final Determination Finding No Violation of Section 337; Termination of the Investigation

AGENCY: International Trade Commission.

ACTION: Notice.

SUMMARY: Notice is hereby given that the U.S. International Trade Commission (“Commission”) has found no violation of section 337 of the Tariff Act of 1930, as amended, in the above-captioned investigation. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On January 24, 2022, the Commission instituted this investigation under section 337 of the Tariff Act of 1930, as amended, 19 U.S.C. 1337 (“section 337”), based on a complaint filed by Hyundai Motor Company of Seoul, Republic of Korea and Hyundai Motor America, Inc. of Fountain Valley, CA (collectively, “Hyundai”). See 87 FR 3583-84 (Jan. 24, 2022). The complaint alleges a violation of section 337 based upon the importation into the United States, sale for importation, or sale after importation into the United States of certain replacement automotive lamps by reason of infringement of certain claims of U.S. Design Patent Nos. D617,478; D618,835; D618,836; D631,583; D637,319; D640,812; D655,835; D664,690; D709,217; D736,436; D738,003; D739,057; D739,574; D740,980; D759,864; D759,865; D771,292; D780,351; D818,163; D829,947; and D834,225 (collectively, “Asserted Patents”). Id. The complaint further alleges that a domestic industry exists. Id. The notice of investigation names four respondents: (1) TYC Brother Industrial Co., Ltd. of Tainan, Taiwan; (2) Genera Corporation (dba. TYC Genera) of Brea, California; (3) LKQ Corporation of Chicago, Illinois; and (4) Keystone Automotive Industries, Inc. of Exeter, Pennsylvania (collectively, “Respondents”). Id. The Office of Unfair Import Investigations is not named as a party.

On February 7, 2022, the Chief Administrative Law Judge (“CALJ”) ordered an evidentiary hearing for both Inv. Nos. 337-TA-1291 and 337-TA-1292 on the economic prong of the domestic industry requirement pursuant to the Commission's pilot program for interim initial determinations (“IID”). See Order No. 7 (Feb. 7, 2022). The combined evidentiary hearing was held on April 20, 2022. On July 1, 2022, the CALJ issued an IID finding that Hyundai has satisfied the economic prong of the domestic industry requirement with respect to all of the asserted design patents. On August 24, 2022, the Commission determined to review the IID. See Comm'n Notice (Aug. 24, 2022).

On January 24, 2023, the CALJ issued a final initial determination (“FID”) finding a violation of section 337 by Respondents based on infringement of each of the Asserted Patents. The FID also finds that no Asserted Patent is invalid as anticipated or obvious. The FID further finds that Hyundai has satisfied the technical prong as to certain representative domestic industry products. Concerning the economic prong of the domestic industry requirement, the FID reduces Hyundai's alleged investments due to Hyundai's failure to establish that certain of its alleged domestic industry products are representative of other alleged domestic industry products. The FID finds, however, that the economic prong of the domestic industry requirement is satisfied for all of the Asserted Patents based on the reduced investments. The CALJ also simultaneously issued a recommended determination on remedy and bonding (“RD”) recommending that, if the Commission finds a violation, it should issue a limited exclusion order but not issue any cease and desist order against any of Respondents.

On February 6, 2023, Respondents filed a petition for review challenging the FID's findings on the economic prong of the domestic industry requirement, infringement, and validity. Also on February 6, 2023, Hyundai filed a petition for review challenging the RD's recommendations and contingently petitioning regarding the FID's findings concerning non-satisfaction of the technical prong of the domestic industry requirement for certain non-representative products. On February 14, 2023, Respondents and Hyundai filed responses to each other's petitions.

On February 23, 2023, the Commission received public interest submissions pursuant to Commission Rule 210.50(a)(4) from the LKQ Respondents and the TYC Respondents. 19 CFR 210.50(a)(4). On February 22 and 23, 2023, the Commission received twelve responses to the Commission notice seeking public interest submission. 88 FR 7759-7760 (Feb. 6, 2023).

On May 11, 2023, the Commission determined to review the FID in its entirety. 88 FR 31522-24 (May 17,2023). The Commission asked the parties to address four questions, which related to infringement, the technical prong of the domestic industry requirement, and the economic prong of the domestic industry requirement. Id. The Commission also requested briefing from the parties, interested government agencies, and the public concerning remedy, bonding, and the public interest. Id.

On May 25, 2023, Hyundai and Respondents filed their initial written responses to the Commission's request for briefing. On June 1, 2023, Hyundai and Respondents filed their reply submission.

On June 15, 2023, Respondents filed a motion to strike a declaration filed with the Hyundai reply submission. On June 26, 2023, Hyundai filed an opposition to the motion to strike.

Having reviewed the record of the investigation, including the IID, the FID, and the parties' petitions, responses, and other submissions, the Commission has determined to find no violation of section 337 with respect to the Asserted Patents. Specifically, the Commission has determined to vacate the IID and the FID's economic prong findings and find that Hyundai has failed to satisfy the economic prong of the domestic industry requirement with respect to any of the Asserted Patents. The Commission has further determined to take no position on the issues of infringement, satisfaction of the technical prong of the domestic industry requirement, and invalidity. The Commission further finds that Respondents' motion to strike the declaration filed with Hyundai's reply submission is moot in view of the finding that there is no violation of section 337 and the public interest factors do not need to be addressed.

The investigation is terminated with a finding of no violation of section 337. The Commission's reasoning in support of its determinations is set forth more fully in its opinion.

Commissioner Schmidtlein does not join the majority's opinion but agrees that Hyundai has failed to establish the economic prong of the domestic industry requirement for any of the Asserted Patents. She therefore agrees that there has been no violation of section 337 in this investigation. She explains her views in a concurring opinion.

The Commission vote for this determination took place on March 7, 2024.

The authority for the Commission's determination is contained in section 337 of the Tariff Act of 1930, as amended (19 U.S.C. 1337), and in Part 210 of the Commission's Rules of Practice and Procedure (19 CFR part 210).

By order of the Commission.
Issued: March 7, 2024.
Katherine Hiner,
Supervisory Attorney.

[FR Doc. 2024-05273 Filed 3-12-24; 8:45 am]

BILLING CODE 7020-02-P